DEPARTMENT OF ENERGY

Federal Energy Regulatory Commission

[Project No. 2232-467]

Duke Energy Corporation; Notice of Availability of Environmental Assessment

March 22, 2005.

In accordance with the National Environmental Policy Act of 1969, as amended, and the Federal Energy Regulatory Commission's (Commission) regulations (18 CFR Part 380), Commission staff have reviewed plans, filed October 8, 2004, to perform embankment seismic stability improvement work at Paddy Creek Dam, part of the Catawba-Wateree Project's Bridgewater Development, which is located on the Catawba River in McDowell and Burke counties, North Carolina. The project occupies nine counties in North Carolina and five counties in South Carolina.

The project licensee, Duke Energy Corporation (Duke Power), plans to add an earthfill berm to the downstream side of the embankment of Paddy Creek Dam. The work is planned because it has been determined that Paddy Creek Dam could fail during the design seismic event. Accordingly, the Commission required remediation under Part 12 of its regulations. In the environmental assessment (EA), Commission staff has analyzed the probable environmental effects of the proposed work and has concluded that approval, with appropriate environmental measures, would not constitute a major Federal action significantly affecting the quality of the human environment.

A copy of the EA is available for review at the Commission's Public Reference Room, or it may be viewed on the Commission's Web site at http://www.ferc.gov using the “elibrary” link. Enter the docket number (P-2232) in the docket number field to access the document. For assistance, call (202) 502-8222, or (202) 502-8659 (for TTY).

Magalie R. Salas,
Secretary.

[FR Doc. E5-1419 Filed 3-30-05; 8:45 am]

BILLING CODE 6717-01-P